DEPARTMENT OF HOUSING AND URBAN DEVELOPMENT

[Docket No. FR-5828-N-11]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301)-443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Debra Kerr, Department of Agriculture, Reporters Building, 300 7th Street, SW., Room 300, Washington, DC 20024, (202) 720-8873; COE: Mr. Scott Whiteford, Army Corps of Engineers, Real Estate, CEMP-CR, 441 G Street NW., Washington, DC 20314; (202) 761-5542; Commandant, United States Coast Guard, Attn: Jennifer Stomber, 2703 Martin Luther King Jr. Ave. SE., Stop 7714, Washington, DC 20593-; (202) 475-5609; Coast Guard: Commandant, United States Coast Guard, Attn: Jennifer Stomber, 2703 Martin Luther King Jr. Avenue SE, Stop 7741, Washington, DC 20593-7714; (202) 475-5609; GSA: Mr. Flavio Peres, General Services Administration, Office of Real Property Utilization and Disposal, 1800 F Street NW., Room 7040 Washington, DC 20405, (202) 501-0084; Interior: Mr. Michael Wright, Acquisition & Property Management, Department of the Interior, 3960 N. 56th Ave. #104, Hollywood, FL. 33021; (443) 223-4639; Navy: Mr. Steve Matteo, Department of the Navy, Asset Management Division, Naval Facilities Engineering Command, Washington Navy Yard, 1330 Patterson Ave. SW., Suite 1000, Washington, DC 20374; (202) 685-9426 (These are not toll-free numbers).

Dated: March 5, 2015.
Brian P. Fitzmaurice,
Director, Division of Community Assistance, Office of Special Needs Assistance Programs.

TITLE V, FEDERAL SURPLUS PROPERTY PROGRAM FEDERAL REGISTER REPORT FOR 03/13/2015

Suitable/Available Properties

Building

California

2 Buildings

5050 Smokey Court

Camp Connell CA 95223

Landholding Agency: Agriculture

Property Number: 15201510014

Status: Excess

Directions: Site 5202, Bldg. 5002

Comments: Off-site removal; 48+yrs.old; wood structure; 528 sq.ft.; office; very poor conditions; no future agency need; contact Agriculture of more info.

Southern Parcel-Alameda Fed Ct

620 Central Avenue

Alameda CA 94501

Landholding Agency: GSA

Property Number: 54201510008

Status: Unutilized

GSA Number: 9-G-CA-1604-AB

Directions: Building #7 (4,000 sq.ft.); Building #3 (5,000 sq.ft.)

Comments: 73+yrs.old; office; auditorium; wood; #7 fair condition; #3 leaky roof; sits on 3.899 acres; parking lot; term use up to 4 yrs.; contact GSA for more info.

Biology Trailer

6525 Lindermann Rd.

Byron CA 94514

Landholding Agency: Interior

Property Number: 61201510002

Status: Unutilized

Comments: Off-site removal only; no future agency need; 1,976 sq. ft.; missing door/floor boards & wall rotten; contact Interior for more information.

Connecticut

Shepard of the Sea Chapel &

Community Center

231 Gungywamp Rd.

Groton CT 06340

Landholding Agency: GSA

Property Number: 54201510010

Status: Surplus GSA

Number: CT-0933

Directions: Disposal Agency: GSA; Landholding Agency: Navy

Comments: 49+ yrs.-old; 28,777 sq. ft.; vacant 48+ mons.; wood & concrete; severe water damage; mold; sits on 13.5 acres; contact GSA for more information.

Oregon

27 Buildings

Rager Ranger Station

Paulina OR 97751

Landholding Agency: Agriculture

Property Number: 15201510013

Status: Unutilized

Directions: 1021(RPUID 1238.004991), 1023(1239.004991), 1024, (1240.004991), 1052(1241.004991), 1054(1242.004991), 1055(1243.004991), 1058(1244.004991), 1059(1245.004991), 1060(1246.004991), 1062(1247.004991), 1063(1248.00491), 1064(1249.004991), 1065(1250.004991), 1066(1251.004991), 1068(1253.004991), 1069(1254.004991), 1070(1255.004991), 2003(1091.04991), 2102(1270.004991), 2203(1271.004991), 2308(1274.004991) 2321(1275.00499)

Comments: Off-site removal only; no future agency need; sq. ft. varies; poor conditions; significant repairs needed; contamination; contact Agriculture for more details on a specific.

South Dakota

Lemmon Vehicle Storage Building 207 10th Street W.

Lemmon SD 57638

Landholding Agency: GSA

Property Number: 54201510009

Status: Surplus

GSA Number: 7-D-SD-0633-AA

Directions: Disposal Agency: GSA; Landholding Agency: COE

Comments: 2,000 sq. ft.; vehicle storage barn; sits on 0.77 acres; contact GSA for more information.

Washington

Mill Creek Sign Shed #3794

3211 Reservoir Road

Walla Walla WA 99362

Landholding Agency: COE

Property Number: 31201510002

Status: Unutilized

Comments: Off-site removal; no future agency need; 30+yrs. old; 145 sq. ft.; Storage; door needs to be replaced; Contact COE for more info.

B327

Naval Air Station Whidbey Island WA

Oak Harbor WA 98278

Landholding Agency: Navy

Property Number: 77201510013

Status: Unutilized

Comments: 71+ yrs. old; vacant 3 yrs.; 192 sq. ft.; water facility; no heat or water; door conditions; contact Navy for more info.

West Virginia

Water Storage Container

(BSAELT-23114)

683 overlook Trail Rd.

East Lynn WV 25512

Landholding Agency: COE

Property Number: 31201510003

Status: Unutilized

Comments: Off-site removal only; no future agency need; 110 sq. ft.; metal storage tank; vacant 240+ months; corroded; contact COE for more information.

Land

Washington

FAS Fleet Motor Pool Parcel C

920 Northgate Drive

Richland WA 99352

Landholding Agency: GSA

Property Number: 54201510007

Status: Excess

GSA Number: 9-Z-WA-1272

Comments: 0.52 acre; asphalt paved; parking lot; contact GSA for more information.

California

3 Buildings

1001 S. Seaside Ave.

Long Beach CA 90731

Landholding Agency: Coast Guard

Property Number: 88201440003

Status: Excess

Directions: 37; 39; 49

Reasons: Secured Area

Comments: Public access denied and no alternative method to gain access without compromising national security.

MWR Gear Storage 1296 Coast Guard Rd.

Eureka CA

Landholding Agency: Coast Guard

Property Number: 88201510003

Status: Unutilized

Reasons: Extensive deterioration

Comments: Documented deficiencies: building destroyed in fire in 2013; clear threat to physical.

Exchange Mini-Mart

1298 coast Guard St.

Eureka CA 95501

Landholding Agency: Coast Guard

Property Number: 88201510004

Status: Unutilized

Reasons: Extensive deterioration

Comments: Documented deficiencies: deteriorated beyond repair; clear threat to physical safety.

Florida

4 Buildings

Naval Air Station Pensacola

Pensocola FL 32509

Landholding Agency: Navy

Property Number: 77201510009

Status: Unutilized

Directions: #856; 2403; 2421; 2472

Reasons: Secured Area

Comments: Public access denied and no alternative method to gain access without compromising national security.

2 Buildings

Naval Air Station Pensacola

Pensacola FL 32509

Landholding Agency: Navy

Property Number: 77201510010

Status: Underutilized

Directions: #2402; 856A

Reasons: Secured Area

Comments: Public access denied and no alternative method to gain access w/out compromising national security.

CG Station Islamorada Housing

161/163 Treasure Harbor Dr.

Islamorada FL 33036

Landholding Agency: Coast Guard

Property Number: 88201420004

Status: Unutilized

Reasons: Secured Area

Comments: Public access denied and no alternative method to gain access w/out compromising national security.

Florida

CG Station Marathon Housing

1800 Overseas Hwy

Marathon FL 33050

Landholding Agency: Coast Guard

Property Number: 88201420007

Status: Unutilized

Reasons: Secured Area

Comments: Public access denied and no alternative method to gain access w/out compromising national security.

Hawaii

3 Buildings

Marine Corps Base Hawaii Kaneohe Bay

Kaneohe HI 96863

Landholding Agency: Navy

Property Number: 77201510008

Status: Excess

Directions: #1307; 1672; 206A

Reasons: Secured Area

Comments: Public access denied and no alternative method to gain access without compromising national security.

Maryland

NIHBC #34 + 34A

34 Service Drive West

Bethesda MD 20892

Landholding Agency: HHS

Property Number: 57201510001

Status: Unutilized

Directions: #40506-00-0034; #40506-00-0034A

Reasons: Secured Area

Comments: Research based facility; highly classified; public access denied and no alternative method to gain access without compromising national security.

Massachusetts

Shed (RPUID 9077)

Garage (RPUID 9078)

133 Eastern Point Blvd.

Gloucester MA 01930

Landholding Agency: Coast Guard

Property Number: 88201440002 Status: Unutilized

Reasons: Extensive deterioration

Comments: Documented deficiencies: severely damaged by storm Sandy; structural damage; clear threat to physical safety.

Michigan

Housing Complex (OJ11) (17068)

2512/2514 Tahoma Way

Sault Ste. Marie MI 49783

Landholding Agency: Coast Guard

Property Number: 88201430003

Status: Excess

Reasons: Extensive deterioration

Comments: Documented deficiencies; extensive fire damage; clear threat to physical safety.

New Jersey

2 Buildings

Coast Guard Station Atlantic City

Atlantic City NJ 08401

Landholding Agency: Coast Guard

Property Number: 88201510001

Status: Excess

Directions: Bldg. 39577 & 9579

Reasons: Floodway, Extensive deterioration, Secured Area

Comments: Public access denied and no alternative method to gain access without compromising national security; located/in floodway which has not been corrected or contained; property damaged by hurricane sandy.

2 Buildings

Coast Guard Station Manasquan Inlet

Point Pleasant Beach NJ 08742

Landholding Agency: Coast Guard

Property Number: 88201510002

Status: Excess

Directions: Bldg. #51339 & 9872

Reasons: Secured Area, Extensive deterioration, Floodway

Comments: Public access denied and no alternative method to gain access without compromising national security; located w/in floodway which has not been corrected or contained; property damaged by hurricane sandy.

New York

U.S. Coast Guard Station

Niagara

1 Scott Avenue

Youngstown NY 14174

Landholding Agency: Coast Guard

Property Number: 88201420001

Status: Excess

Reasons: Secured Area

Comments: Public access denied and no alternative method to gain access without compromising national security.

South Carolina

Army Reserve Building Chisolm & Broad St

196 Tradd St.

Charleston SC 29401

Landholding Agency: Coast Guard

Property Number: 88201420008

Status: Unutilized

Reasons: Secured Area

Comments: Public access denied and no alternative method to gain access without compromising national security.

Virginia

Lift Station (210) [26232]

1 Training Center

Yorktown VA 23690

Landholding Agency: Coast Guard

Property Number: 88201420009

Status: Excess

Reasons: Secured Area

Comments: Public access denied and no alternative method to gain access without compromising national security.

Lift Station (2101A) [26233]

1 Training Center

Yorktown VA 23690

Landholding Agency: Coast Guard

Property Number: 88201420010

Status: Excess

Reasons: Secured Area

Comments: Public access denied and no alternative method to gain access without compromising national security.

Washington

B320

Naval Air Station Whidbey Island

Oak Harbor WA 98278

Landholding Agency: Navy

Property Number: 77201510012 Status: Unutilized

Reasons: Secured Area

Comments: Public access denied & no alternative method to gain access w/out compromising Nat'l.

West Virginia

Concrete Wash House

(KAORDB-23624) & (KAORDB-23622)

Guyandotte Campground

Justice WV 24851

Landholding Agency: COE

Property Number: 31201510004

Status: Unutilized

Reasons: Floodway

Comments: Property located in floodway which has not been corrected or contained.

Land

New Jersey

Naval Weapons Station Earle

201 Hwy. 34

Colts Neck NJ 07722

Landholding Agency: Navy

Property Number: 77201510011

Status: Underutilized

Reasons: Secured Area

Comments: Public access denied & no alternative method to gain access w/out compromising national security.

[FR Doc. 2015-05762 Filed 3-12-15; 8:45 am]

BILLING CODE 4210-67-P